DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, Division of Injury Compensation Programs, 5600 Fishers Lane, Room 8W-25A, Rockville, Maryland 20857; 1-800-338-2382, or visit our website at: https://www.hrsa.gov/vaccine-compensation.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2025, through May 31, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Skyla Waddell, Albemarle, North Carolina, Court of Federal Claims No: 25-0751V

2. Kyana Lewis and Shawn Burks on behalf of A. C. B., Fairfax, Virginia, Court of Federal Claims No: 25-0752V

3. Susan Green on behalf of Estate of Jack Benmayor, Deceased, Cincinnati, Ohio, Court of Federal Claims No: 25-0753V

4. Julie Bansch-Wickert, Lone Tree, Colorado, Court of Federal Claims No: 25-0754V

5. Nicole Companik, Chicago, Illinois, Court of Federal Claims No: 25-0755V

6. Holly Stroot, Madison, Wisconsin, Court of Federal Claims No: 25-0756V

7. Eric Tasker, Annapolis, Maryland, Court of Federal Claims No: 25-0757V

8. Amal Helen Zayed, Bolingbrook, Illinois, Court of Federal Claims No: 25-0758V

9. Jacob Rosenfeld, Deerfield, Illinois, Court of Federal Claims No: 25-0759V

10. Korina DeHerrera, Ephrata, Washington, Court of Federal Claims No: 25-0762V

11. Deanna Sofie, Dresher, Pennsylvania, Court of Federal Claims No: 25-0764V

12. Mariah Burlew, Manvel, Texas, Court of Federal Claims No: 25-0765V

13. Josh Neaf, Alpharetta, Georgia, Court of Federal Claims No: 25-0767V

14. Sammie L. Thurman, Greensboro, North Carolina, Court of Federal Claims No: 25-0768V

15. Vicki Lipka, Sun Prairie, Wisconsin, Court of Federal Claims No: 25-0769V

16. Barry Averill, Bayport, Texas, Court of Federal Claims No: 25-0771V

17. Jason Elliott, Boston, Massachusetts, Court of Federal Claims No: 25-0773V

18. Aafia Malik, Bayshore, New York, Court of Federal Claims No: 25-0775V

19. Paul Andrew MacLeod, Wellesley, Massachusetts, Court of Federal Claims No: 25-0776V

20. Sparkle Reese, Snellville, Georgia, Court of Federal Claims No: 25-0778V

21. Susan M. LaPointe, Saratoga Springs, New York, Court of Federal Claims No: 25-0779V

22. Jaime Capener, Bountiful, Utah, Court of Federal Claims No: 25-0780V

23. Chandra Thomas, Germantown, Tennessee, Court of Federal Claims No: 25-0781V

24. Alexander Joe Shogan, Jr., Spokane, Washington, Court of Federal Claims No: 25-0784V

25. Linda Mays, Midlothian, Virginia, Court of Federal Claims No: 25-0788V

26. Deanna Wake, Springfield, Missouri, Court of Federal Claims No: 25-0789V

27. Patricia Combs, Phoenix, Arizona, Court of Federal Claims No: 25-0792V

28. Leslie Watkins, Spokane, Washington, Court of Federal Claims No: 25-0795V

29. Nancy Comello, Madison, Wisconsin, Court of Federal Claims No: 25-0796V

30. Kristie Kimmons, Lima, Ohio, Court of Federal Claims No: 25-0798V

31. Rajiv Yandrapati on behalf of N.Y., Houston, Texas, Court of Federal Claims No: 25-0799V

32. Deborah Smyth, Lawrenceville, New Jersey, Court of Federal Claims No: 25-0801V

33. Zachary Menshew, San Antonio, Texas, Court of Federal Claims No: 25-0803V

34. Susan Goff, Chico, California, Court of Federal Claims No: 25-0806V

35. Rebekah Ferguson, New York, New York, Court of Federal Claims No: 25-0807V

36. Charlotte Kahen, Los Angeles, California, Court of Federal Claims No: 25-0808V

37. Kimberly Davidson, Cudahy, Wisconsin, Court of Federal Claims No: 25-0810V

38. Dana Hughes, Santa Barbara, California, Court of Federal Claims No: 25-0812V

39. Shane Silverman, Stratford, Connecticut, Court of Federal Claims No: 25-0813V

40. Brandi Schrader, Grand Rapids, Michigan, Court of Federal Claims No: 25-0815V

41. Douglas Rollins, Mt. Juliet, Tennessee, Court of Federal Claims No: 25-0817V

42. Cynthia Feuling, Oconomowoc, Wisconsin, Court of Federal Claims No: 25-0820V

43. Michelle Purdy, Nebraska City, Nebraska, Court of Federal Claims No: 25-0821V

44. Bianca Chery, Brockton, Massachusetts, Court of Federal Claims No: 25-0822V

45. Blair Leishman, American Fork, Utah, Court of Federal Claims No: 25-0823V

46. Nethaniel Amanfo, Marietta, Georgia, Court of Federal Claims No: 25-0824V

47. Susan Bohall, Denham Springs, Louisiana, Court of Federal Claims No: 25-0825V

48. Prudensiana Lewis, Katy, Texas, Court of Federal Claims No: 25-0829V

49. Edessa Katie Daniel, Los Angeles, California, Court of Federal Claims No: 25-0833V

50. Shalandra Quick, Chicago, Illinois, Court of Federal Claims No: 25-0834V

51. Paige Crum, Springfield, Illinois, Court of Federal Claims No: 25-0835V

52. Michael Bruno, Long Island, New York, Court of Federal Claims No: 25-0836V

53. Susan Vasileff, Sturgeon, Missouri, Court of Federal Claims No: 25-0837V

54. Elizabeth Stelly, City of Industry, California, Court of Federal Claims No: 25-0838V

55. Thomas Church, III, Edgerton, Minnesota, Court of Federal Claims No: 25-0839V

56. Curtis Waits, Redgranite, Wisconsin, Court of Federal Claims No: 25-0840V

57. Marcus Bunton, Bowling Green, Kentucky, Court of Federal Claims No: 25-0841V

58. Jose Antonio Inoa Almonte, Stormville, New York, Court of Federal Claims No: 25-0843V

59. Larry Miller, American Canyon, California, Court of Federal Claims No: 25-0844V

60. Betsy File, Salisbury, North Carolina, Court of Federal Claims No: 25-0845V

61. Nadya Lazarev, New York, New York, Court of Federal Claims No: 25-0846V

62. Janette Glaser, Huntington Beach, California, Court of Federal Claims No: 25-0847V

63. Melvin L. Terry, Allouez, Wisconsin, Court of Federal Claims No: 25-0848V

64. Kyle Muro, Berkeley, California, Court of Federal Claims No: 25-0849V

65. Marci Neustadt, Westlake Village, California, Court of Federal Claims No: 25-0854V

66. Nicole Wood, Woodridge, Illinois, Court of Federal Claims No: 25-0856V

67. Mecquon J. Jones, Fox Lake, Wisconsin, Court of Federal Claims No: 25-0857V

68. Jose Burgos, Dresher, Pennsylvania, Court of Federal Claims No: 25-0860V

69. LaAsia Benford, Acworth, Georgia, Court of Federal Claims No: 25-0861V

70. David Bye, San Francisco, California, Court of Federal Claims No: 25-0862V

71. Gary Sunderland, Dresher, Pennsylvania, Court of Federal Claims No: 25-0863V

72. John A. Rafter, Jr., Portland, Oregon, Court of Federal Claims No: 25-0864V

73. Julie Wakely, Colts Neck, New Jersey, Court of Federal Claims No: 25-0866V

74. Haley Whisenhunt, Chagrin Falls, Ohio, Court of Federal Claims No: 25-0868V

75. Tanya Nelson, Dresher, Pennsylvania, Court of Federal Claims No: 25-0869V

76. Lisa Alber, Dresher, Pennsylvania, Court of Federal Claims No: 25-0870V

77. Kenneth Paciocco, Schertz, Texas, Court of Federal Claims No: 25-0873V

78. Mitchell L. Katzman, Raleigh, North Carolina, Court of Federal Claims No: 25-0879V

79. Cheri Ronan, Dresher, Pennsylvania, Court of Federal Claims No: 25-0880V

80. Ednaly Meza, New York, New York, Court of Federal Claims No: 25-0881V

81. Cynthia Burke, Ferndale, Michigan, Court of Federal Claims No: 25-0884V

82. Nicole Strong, Cedar Springs, Michigan, Court of Federal Claims No: 25-0885V

83. Dawnetta Hayes, Cincinnati, Ohio, Court of Federal Claims No: 25-0886V

84. Michael Boddie, Danville, Pennsylvania, Court of Federal Claims No: 25-0887V

85. Justin Chambers, Bee Cave, Texas, Court of Federal Claims No: 25-0888V

86. Laura Day, Macon, Georgia, Court of Federal Claims No: 25-0889V

87. Taneshia Kendrick on behalf of C.C., Washington, District of Columbia, Court of Federal Claims No: 25-0892V

88. Meaghan Bartlett, Woodridge, Illinois, Court of Federal Claims No: 25-0893V

89. Nicholas Hobbs, Charleston, South Carolina, Court of Federal Claims No: 25-0894V

90. Beth Casteel on behalf of B.C., Denver, Colorado, Court of Federal Claims No: 25-0896V

91. Shari Wilson, Lowell, Massachusetts, Court of Federal Claims No: 25-0897V

92. Shari Smith-Jackson, Dresher, Pennsylvania, Court of Federal Claims No: 25-0898V

93. Maryalice Omokeye Moses, Beverly Hills, California, Court of Federal Claims No: 25-0899V

94. Kathleen Tennaro, Woodridge, Illinois, Court of Federal Claims No: 25-0901V

95. Aubrey L. Hazlett, Raleigh, North Carolina, Court of Federal Claims No: 25-0903V

96. Julie Eusebio, Brookfield, Wisconsin, Court of Federal Claims No: 25-0904V

97. Sara Faux, Dresher, Pennsylvania, Court of Federal Claims No: 25-0905V

98. Allen Barber, Woodridge, Illinois, Court of Federal Claims No: 25-0906V

99. Greer Gisy, Richmond, Virginia, Court of Federal Claims No: 25-0907V

100. Thien Danh, Woodridge, Illinois, Court of Federal Claims No: 25-0908V

101. Russell Senn, White Bear Lake, Minnesota, Court of Federal Claims No: 25-0909V

102. Shara Harbin, Fayetteville, Georgia, Court of Federal Claims No: 25-0911V

103. Rina Mais, Glen Rock, New Jersey, Court of Federal Claims No: 25-0914V

104. Christy Bitterling on behalf of J.B., Los Angeles, California, Court of Federal Claims No: 25-0923V

105. Joshua Carson, Overland Park, Kansas, Court of Federal Claims No: 25-0924V

106. Jerine Coley, Dresher, Pennsylvania, Court of Federal Claims No: 25-0925V

107. Becky Dorris, Dresher, Pennsylvania, Court of Federal Claims No: 25-0927V

[FR Doc. 2025-11046 Filed 6-13-25; 8:45 am]

BILLING CODE 4165-15-P